DEPARTMENT OF HEALTH AND HUMAN SERVICES

National Institutes of Health

Center for Scientific Review; Amended Notice of Meeting

Notice is hereby given of a change in the meeting of the Center for Scientific Review Special Emphasis Panel, October 31, 2013, 8:00 a.m. to November 1, 2013, 1:00 p.m., One Washington Circle Hotel, One Washington Circle, Washington, DC 20037 which was published in the Federal Register on October 22, 2013, 78 FR 204 Pg. 62641.

The meeting will start on November 22, 2013 at 8:00 a.m. and will end on November 22, 2013 at 6:00 p.m. The meeting location remains the same. The meeting is closed to the public.

Dated: October 24, 2013.
Carolyn A. Baum,
Program Analyst, Office of Federal Advisory Committee Policy.

[FR Doc. 2013-25659 Filed 10-29-13; 8:45 am]

BILLING CODE 4140-01-P